DEPARTMENT OF DEFENSE

GENERAL SERVICES ADMINISTRATION

NATIONAL AERONAUTICS AND SPACE ADMINISTRATION

48 CFR Chapter 1

[Docket FAR—2007-002, Sequence 5]

Federal Acquisition Regulation; Federal Acquisition Circular 2005-20; Introduction

AGENCIES: Department of Defense (DoD), General Services Administration (GSA), and National Aeronautics and Space Administration (NASA).

ACTION: Summary presentation of final rule.

SUMMARY: This document summarizes the Federal Acquisition Regulation (FAR) rule agreed to by the Civilian Agency Acquisition Council and the Defense Acquisition Regulations Council in this Federal Acquisition Circular (FAC) 2005-20 as a pilot program. A companion document, the Small Entity Compliance Guide (SECG), follows this FAC. The FAC, including the SECG, is available via the Internet at http://www.regulations.gov/.

DATES: For effective dates and comment dates, see the document following this notice.

FOR FURTHER INFORMATION CONTACT: For clarification of content, contact the analyst whose name appears in the table below in relation to the FAR case. Please cite FAC 2005-20, FAR Case 2006-029. Interested parties may also visit our website at http://www.regulations.gov. For information pertaining to status or publication schedules, contact the FAR Secretariat at (202) 501-4755.

Rule listed in FAC 2005-20
Subject | FAR case | Analyst
Federal Funding Accountability and Transparency Act (FFATA) - Reporting Requirement of Subcontractor Award Data | 2006-029 | Woodson.

SUPPLEMENTARY INFORMATION: A summary of the FAR rule follows. For the actual revisions and/or amendments to this FAR case, refer to FAR Case 2006-029.

FAC 2005-20 amends the FAR as specified below:

Federal Funding Accountability and Transparency Act (FFATA) - Reporting Requirement of Subcontractor Award Data (FAR Case 2006-029)

This final rule amends the Federal Acquisition Regulation (FAR) to require that contractors report specific subcontract awards to a public database. The Federal Funding Accountability and Transparency Act of 2006 (FFATA) (Pub. L. 109-282) requires the existence and operation of a searchable website that provides public access to information about Federal expenditures. This final rule establishes a pilot program to test the collection and accession of subcontract award data. As a result, subcontracts awarded and funded with Federal appropriated funds will eventually be disclosed to the public in a single searchable website. However, information reported under the pilot program will not be disclosed to the public.

Dated: August 29, 2007.
Al Matera,
Director, Office of Acquisition Policy.

Federal Acquisition Circular

Federal Acquisition Circular (FAC) 2005-20 is issued under the authority of the Secretary of Defense, the Administrator of General Services, and the Administrator for the National Aeronautics and Space Administration.

Unless otherwise specified, all Federal Acquisition Regulation (FAR) and other directive material contained in FAC 2005-20 is effective September 6, 2007.

Dated: August 27, 2007.
Shay D. Assad,
Director, Defense Procurement and Acquisition Policy.

Dated: August 29, 2007.
Al Matera,
Acting Senior Procurement Executive, General Services Administration.

Dated: August 28, 2007.
Sheryl Goddard,
Acting Assistant Administrator for Procurement, National Aeronautics and Space Administration.

[FR Doc. 07-4338 Filed 9-5-07; 8:45 am]

BILLING CODE 6820-EP-S